DEPARTMENT OF LABOR

Office of the Secretary

[Secretary's Order 17-2006]

Delegation of Authority and Assignment of Responsibilities for Mine Safety and Health Programs

1. Purpose. To update the delegation of authority and assignment of responsibilities for the administration and enforcement of mine safety and health programs.

2. Authority. This Order is reissued pursuant to the following: Act of March 4, 1913, as amended, establishing the Department of Labor (DOL) (29 U.S.C. 551 et seq.); Act of August 12, 1958, as amended, setting forth the Secretary of Labor's authority to prescribe regulations (5 U.S.C. 301); Act of August 2, 1946, as amended, setting forth the power of an agency head to delegate authority (5 U.S.C. 302); and The Federal Mine Safety and Health Act of 1977 (Mine Act) (30 U.S.C. 801 et seq.), as amended and supplemented by The Mine Improvement and New Emergency Response Act of 2006 (MINER Act) (Pub. L. 109-236).

3. Directives Affected. Secretary's Order 04-1995 is canceled.

4. Background. The Mine Act provides authority and assigns responsibilities for mine safety and health to the Secretary and, except as specifically provided otherwise, authorizes and directs the Secretary to carry out functions under the Mine Act through the Mine Safety and Health Administration. The MINER Act, enacted on June 15, 2006, amended and supplemented the Mine Act for the purpose of further improving the safety of mines and mining.

5. Delegation of Authority and Assignment of Responsibility.

A. The Assistant Secretary for Mine Safety and Health is delegated authority and assigned responsibility for:

(1) Developing and administering all aspects of DOL's mine safety and health programs and activities under:

a. The Mine Act (except Title IV of such Act), including its amendments under the MINER Act.

b. The provisions of the MINER Act not otherwise codified in the Mine Act.

c. All other Federal statutes, Executive Orders, and regulations respecting mine safety and health for which the Secretary of Labor has responsibility.

(2) Performing after mine accidents and disasters Family Liaison responsibilities under Section 7 of the MINER Act by dispatching trained personnel to carry out temporary assignments as:

a. Liaison and Primary Communicator of information with the families of victims;

b. Primary Communicator with mine operators; and

c. Primary Communicator with the press and the public, consistent with Section 7 of the MINER Act, Secretary's Order 08-2006 and protocols developed by the Assistant Secretary for Public Affairs in consultation with the Assistant Secretary for Mine Safety and Health.

(3) Coordinating with other agencies having responsibilities affecting mine safety and health.

B. The Assistant Secretary for Public Affairs is responsible for establishing protocols in consultation with the Assistant Secretary for Mine Safety and Health to provide direction to the Primary Communicator in communicating with the press and the public.

C. The Chief Human Capital Officer is responsible for assisting, as needed and in accordance with 5 U.S.C. 1401(1), the Assistant Secretary for Mine Safety and Health in establishing qualifications and training requirements for MSHA personnel performing responsibilities under Section 7 of the MINER Act.

D. The Solicitor of Labor is responsible for providing legal advice and assistance to the Secretary, the Assistant Secretary for Mine Safety and Health, and to all other officers and employees of the Department relating to implementation and administration of all aspects of this Order. The Solicitor of Labor is also responsible for determining in each instance whether legal proceedings relating to mine safety and health issues and legal actions on behalf of, and representing the Secretary in civil proceedings, are appropriate.

6. Reservation of Authority. The following functions are reserved to the Secretary:

A. The submission of reports and recommendations to the President and the Congress concerning the administration of the Mine Act.

B. The authority under section 3(h) of the Mine Act to consider convenience of administration in determining what constitutes mineral milling.

7. Redelegation of Authority. The authorities delegated in this Order may be redelegated.

8. Effective Date. This Order is effective immediately.

Dated: November 1, 2006.
Elaine L. Chao,
Secretary of Labor.

[FR Doc. E6-19175 Filed 11-13-06; 8:45 am]

BILLING CODE 4510-23-P